DEPARTMENT OF COMMERCE

National Oceanic and Atmospheric Administration

RIN 0648-XE763

Marine Mammals; File No. 18879

AGENCY: National Marine Fisheries Service (NMFS), National Oceanic and Atmospheric Administration (NOAA), Commerce.

ACTION: Notice; withdrawal of application.

SUMMARY: Notice is hereby given that Heather E. Liwanag, Ph.D. (California Polytechnic State University, San Luis Obispo, CA 93407-0401) has withdrawn an application for a permit to conduct research on Weddell seals (Leptonychotes weddellii) near McMurdo Station, Antarctica.

ADDRESSES: The application and related documents are available for review upon written request or by appointment in the Permits and Conservation Division, Office of Protected Resources, NMFS, 1315 East-West Highway, Room 13705, Silver Spring, MD 20910; phone (301) 427-8401; fax (301) 713-0376.

FOR FURTHER INFORMATION CONTACT: Sara Young or Amy Sloan, (301) 427-8401.

SUPPLEMENTARY INFORMATION: On August 3, 2016, notice was published in the Federal Register (81 FR 51189) that a request for a permit to conduct research on Weddell seals had been submitted by the above-named applicant.

The applicant has withdrawn the application from further consideration.

Dated: October 20, 2016.
Julia Harrison,
Chief, Permits and Conservation Division, Office of Protected Resources, National Marine Fisheries Service.

[FR Doc. 2016-25764 Filed 10-24-16; 8:45 am]

BILLING CODE 3510-22-P